DEPARTMENT OF ENERGY

Federal Energy Regulatory Commission

[Docket No. RP04-174-000]

CenterPoint Energy-Mississippi River Transmission Corporation; Notice of Proposed Changes in FERC Gas Tariff

February 26, 2004.

Take notice that on February 23, 2004, CenterPoint Energy Mississippi River Transmission Corporation (MRT) tendered for filing as part of its FERC Gas Tariff, Third Revised Volume No. 1, the following tariff sheets to be effective April 1, 2004:

Fifth Revised Sheet No. 226

Fifth Revised Sheet No. 226A

Original Sheet No. 226A.01

MRT states that the purpose of this filing is to add a new type of discount provision to section 18.2 of the General Terms and Conditions of MRT's tariff that MRT may include in a discount rate agreement in a manner that would not constitute a material deviation from MRT's pro forma service agreement. MRT states that this new provision would provide for discounts to be based on published index prices for specific receipt or delivery points or other agreed-upon published pricing reference points.

MRT states that copies of the tariff sheets are being mailed to all parties on MRT's official service list, to MRT's jurisdictional customers, and to interested State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at ERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-443 Filed 3-2-04; 8:45 am]

BILLING CODE 6717-01-P